DEPARTMENT OF EDUCATION

[CFDA No. 84.235G]

Parent Information and Training Program—Technical Assistance; Notice Inviting Applications for New Awards for Fiscal Year (FY) 2002

Purpose of Program: To provide coordination and technical assistance for establishing, developing, and coordinating the Parent Information and Training Projects funded under Title III of the Rehabilitation Act of 1973, as amended (Act).

Eligible Applicants: Private nonprofit organizations that, to the extent practicable, are the training and information centers established pursuant to section 682(a) of the Individuals with Disabilities Education Act (as added by section 101 of the Individuals with Disabilities Education Act Amendments of 1997; Public Law 105-17).

Applications Available: June 17, 2002.

Deadline for Transmittal of Applications: August 1, 2002.

Deadline for Intergovernmental Review: September 30, 2002.

Estimated Available Funds: $100,000.

Estimated Number of Awards: 1.

Note: The Department is not bound by any estimates in this notice.

Project Period: Up to 60 months.

Applicable Regulations: The Education Department General Administrative Regulations (EDGAR) in 34 CFR parts 74, 75, 77, 79, 82, 85, 86, 97, and 99.

Statutory Activities

Grantees must coordinate with and provide technical assistance to the Parent Information and Training Centers funded under Title III of the Act. These centers are required to assist individuals with disabilities, and the parents, family members, guardians, advocates, or authorized representatives of the individuals—

• To better understand vocational rehabilitation and independent living programs and services;

• To provide follow-up support for transition and employment programs;

• To communicate more effectively with transition and rehabilitation personnel and other relevant professionals;

• To provide support in the development of the individualized plan for employment;

• To provide support and expertise in obtaining information about rehabilitation and independent living programs, services, and resources that are appropriate; and

• To understand the provisions of the Act, particularly provisions relating to employment, supported employment, and independent living.

In addition, grantees must coordinate and provide technical assistance to the Parent Information and Training Centers that address optional activities related to the Supreme Court's recent decision in the Olmstead case, which requires community living alternatives, if appropriate, in place of institutionalization.

Priorities

Competitive Preference Priority—Employing and Advancing in Employment Qualified Individuals With Disabilities

We give preference to applications that meet the competitive preference priority in the notice of final competitive preference for this program, published in the Federal Register on November 22, 2000 (65 FR 70408). Under 34 CFR 75.105(c)(2)(i) we award up to an additional 10 points to an application that is otherwise eligible for funding under this program. The maximum score under the selection criteria for this program is 100 points; however, we will also use the following competitive preference so that up to an additional 10 points may be earned by an applicant for a total possible score of 110 points.

Up to 10 points may be earned based on the extent to which an application includes effective strategies for employing and advancing in employment qualified individuals with disabilities as project employees in projects awarded under this program. In determining the effectiveness of those strategies, we will consider the applicant's prior success, as described in the application, in employing and advancing in employment qualified individuals with disabilities.

Selection Criteria: In evaluating an application for a new grant under this competition, we use selection criteria chosen from the general selection criteria in 34 CFR 75.210 of EDGAR. The selection criteria to be used for this competition will be provided in the application package for this competition.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html, or you may contact ED Pubs at its e-mail address: edpubs@inet.ed.gov.

If you request an application from ED Pubs, be sure to identify this competition as follows: CFDA number 84.235G.

Individuals with disabilities may obtain a copy of the application package in an alternative format by contacting the Grants and Contracts Services Team, U.S. Department of Education, 400 Maryland Avenue, SW., room 3317, Switzer Building, Washington, DC 20202-2550. Telephone: (202) 205-8207. If you use a telecommunications device for the deaf (TDD), you may call the Federal Information Relay Service (FIRS) at 1-800-877-8339. However, the Department is not able to reproduce in an alternative format the standard forms included in the application package.

For Further Information Contact: Joyce Libby, U.S. Department of Education, 400 Maryland Avenue, SW., room 3332, Switzer Building, Washington, DC 20202-2650. Telephone: (202) 205-5392. If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 29 U.S.C. 773(c)(6).

Dated: June 7, 2002.
Loretta L Petty,
Acting Assistant Secretary for Special Education and Rehabilitative Services.

[FR Doc. 02-14865 Filed 6-12-02; 8:45 am]

BILLING CODE 4000-01-P